DEPARTMENT OF THE INTERIOR

Bureau of Land Management

[MT-926-05-9820-BJ-MT01]

Montana: Filing of Plat of Survey

AGENCY: Bureau of Land Management, Montana State Office, Interior.

ACTION: Notice of filing of plat of survey.

SUMMARY: The Bureau of Land Management (BLM) will file the plat of survey of the lands described below in the BLM Montana State Office, Billings, Montana, (30) days from the date of publication in the Federal Register.

FOR FURTHER INFORMATION CONTACT: Steve Toth, Cadastral Surveyor, Branch of Cadastral Survey, Bureau of Land Management, 5001 Southgate Drive, P.O. Box 36800, Billings, Montana 59107-6800, telephone (406) 896-5121 or (406) 896-5009.

SUPPLEMENTARY INFORMATION: This survey was executed at the request of the U.S. Forest Service and was necessary to determine unsurveyed Forest Service lands. The lands we surveyed are:

Principal Meridian, Montana

T. 6 N., R. 16 W.

The plat, in six sheets, representing the dependent resurvey of a portion of certain mineral surveys, the survey of a portion of the subdivisional lines and the subdivision of sections 17 and 22, in Township 6 North, Range 16 West, Principal Meridian, Montana, was accepted November 16, 2004.

We will place copies of the plat, in six sheets, and related field notes we described in the open files. They will be available to the public as a matter of information.

If BLM receives a protest against this survey, as shown on this plat, in six sheets, prior to the date of the official filing, we will stay the filing pending our consideration of the protest.

We will not officially file this plat, in six sheets, until the day after we have accepted or dismissed all protests and they have become final, including decisions or appeals.

Dated: November 17, 2004.
Thomas M. Deiling,
Chief Cadastral Surveyor, Division of Resources.

[FR Doc. 04-26026 Filed 11-23-04; 8:45 am]

BILLING CODE 4310-$$-P